DEPARTMENT OF THE TREASURY

Submission for OMB Review; Comment Request

March 24, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 5, 2003 to be assured of consideration.

Departmental Offices/Federal Consulting Group

OMB Number: New.

Form Number: None.

Type of Review: New collection.

Title: American Customer Satisfaction Index Survey.

Description: The objectives of surveying customers of Federal Agencies as part of the American Customer Satisfaction Index are: (1) To make the agencies part of the national measure of customer satisfaction; (2) to benchmark against other agencies and companies; and (3) to provide information for improving satisfaction.

Respondents: Individuals or households, Business or other for-profit, Not-for-profit institutions, Farms, Federal Government, State, Local or Tribal Government.

Estimated Number of Respondents: 46,000.

Estimated Burden Hours Per Respondent: 17 minutes.

Frequency of Response: Annually.

Estimated Total Reporting Burden: 7,799 hours.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Departmental Reports, Management Officer.

[FR Doc. 03-8161 Filed 4-3-03; 8:45 am]

BILLING CODE 4811-16-P